DEPARTMENT OF COMMERCE

National Oceanic and Atmospheric Administration

50 CFR Part 300

[Docket No. 141222999-5173-01]

RIN 0648-BE71

International Fisheries; Pacific Tuna Fisheries; 2015 and 2016 Commercial Fishing Restrictions for Pacific Bluefin Tuna in the Eastern Pacific Ocean

AGENCY: National Marine Fisheries Service (NMFS), National Oceanic and Atmospheric Administration (NOAA), Commerce.

ACTION: Proposed rule; request for comments.

SUMMARY: The National Marine Fisheries Service (NMFS) is proposing regulations under the Tuna Conventions Act to implement Resolution C-14-06 of the Inter-American Tropical Tuna Commission (IATTC or the Commission) establishing limits on U.S. commercial catch of Pacific bluefin tuna from waters of the IATTC Convention Area for 2015 and 2016. This action is necessary for the United States to satisfy its obligations as a member of the IATTC.

DATES: Comments on the proposed rule and supporting documents must be submitted in writing by April 8, 2015. A public hearing will be held from 1 p.m. to 4 p.m. PDT, March 26, 2015. (See ADDRESSES for the public hearing location.)

ADDRESSES: You may submit comments on this document, identified by NOAA-NMFS-2014-0151, by any of the following methods:

• Electronic Submission: Submit all electronic public comments via the Federal e-Rulemaking Portal. Go to http://www.regulations.gov/#!docketDetail;D=NOAA-NMFS-2014-0151, click the “Comment Now!” icon, complete the required fields, and enter or attach your comments.

• Mail: Submit written comments to Celia Barroso, NMFS West Coast Region Long Beach Office, 501 W. Ocean Blvd., Suite 4200, Long Beach, CA 90802. Include the identifier “NOAA-NMFS-2014-0151” in the comments.

• Public hearing: The public is welcome to attend a public hearing and offer comments on this proposed rule from 1 p.m. to 4 p.m. PDT, March 26, 2015, at 501 W. Ocean Boulevard, Suite 4200, Long Beach, CA 90802. The public may also participate in the public hearing via conference line: 1-877-934-5061, passcode 7998683.

Instructions: Comments must be submitted by one of the above methods to ensure they are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous).

Copies of the draft Regulatory Impact Review (RIR) and other supporting documents are available via the Federal eRulemaking Portal: http://www.regulations.gov, docket NOAA-NMFS-2014-0151 or contact with the Regional Administrator, William W. Stelle, Jr., NMFS West Coast Region, 7600 Sand Point Way NE., Bldg 1, Seattle, WA 98115-0070, or RegionalAdministrator.WCRHMS@noaa.gov.

FOR FURTHER INFORMATION CONTACT: Celia Barroso, NMFS, 562-432-1850

SUPPLEMENTARY INFORMATION:

Background on the IATTC

The United States is a member of the IATTC, which was established under the 1949 Convention for the Establishment of an Inter-American Tropical Tuna Commission. The full text of the 1949 Convention is available at: http://www.iattc.org/PDFFiles/IATTC_convention_1949.pdf.

The IATTC facilitates scientific research into, as well as conservation and management of, highly migratory species of fish in the IATTC Convention Area (defined as the waters of the eastern Pacific Ocean (EPO)). Since 1998, conservation resolutions adopted by the IATTC have further defined the Convention Area as the area bounded by the coast of the Americas, the 50° N. and 50° S. parallels, and the 150° W. meridian. The IATTC has maintained a scientific research and fishery monitoring program for many years, and regularly assesses the status of tuna and billfish stocks in the EPO to determine appropriate catch limits and other measures deemed necessary to prevent overexploitation of these stocks and to promote sustainable fisheries. The IATTC currently consists of 21 member nations and four cooperating non-member nations.

International Obligations of the United States Under the Convention

As a Contracting Party to the 1949 Convention and a member of the IATTC, the United States is legally bound to implement IATTC resolutions. The Tuna Conventions Act (16 U.S.C. 951-962) directs the Secretary of Commerce, after approval by the Secretary of State, to promulgate such regulations as may be necessary to implement resolutions adopted by the IATTC. The Secretary's authority to promulgate such regulations has been delegated to NMFS.

Pacific Bluefin Tuna Resolution

Recognizing the need to reduce fishing mortality of Pacific bluefin tuna (Thunnus orientalis), the IATTC has adopted catch limits for Pacific bluefin tuna in the Convention Area since 2012. In 2011, NMFS determined overfishing was occurring on Pacific bluefin tuna (76 FR 28422, May 17, 2011), which is considered a single Pacific-wide stock. Based on the results of a 2012 stock assessment conducted by the International Scientific Committee for Tuna and Tuna-like Species in the North Pacific Ocean (ISC), NMFS determined Pacific bluefin tuna was not only experiencing overfishing, but was also overfished (78 FR 41033, July 9, 2013). NMFS implemented the previous resolutions (Resolutions C-12-09 and C-13-02) to establish catch limits for the United States via rulemaking in 2013 (78 FR 33240, June 4, 2013) and 2014 (79 FR 28452, May 16, 2014). At its resumed 87th Meeting in October 2014, the IATTC adopted Resolution C-14-06, “Measures for the Conservation and Management of Bluefin Tuna in the Eastern Pacific Ocean, 2015-2016.” The resolution, and subject of this rulemaking, was approved by the Secretary of State thereby prompting implementation by NMFS. Resolution C-14-06 reaffirms “. . . that it is necessary to adopt . . . measures to reduce the fishing mortality of Pacific bluefin tuna . . . to contribute to the rebuilding of the stock” and follows the IATTC scientific staff recommendations for a 20 to 45 percent reduction in catch.

In 2014, the Western and Central Pacific Fisheries Commission (WCPFC), which has purview over the management of highly migratory fish stocks in the western and central Pacific Ocean, also adopted a conservation and management measure for Pacific bluefin tuna, to decrease the level of fishing mortality (CMM 2014-04). Future conservation measures adopted by the IATTC and WCPFC for Pacific bluefin tuna are expected to be based, in part, on information and advice from the ISC, which intends to complete an updated stock assessment in 2016.

The main objective of Resolution C-14-06 is to reduce overfishing and to conserve and rebuild the Pacific bluefin tuna stock by setting limits on the commercial catch of Pacific bluefin tuna in the Convention Area for 2015 and 2016. C-14-06 establishes a catch limit for 2015 and 2016 combined of 600 metric tons (mt) for commercial vessels of each member or cooperating non-member (collectively known as CPCs), except Mexico, with a historical record of Pacific bluefin tuna catch from the EPO (such as the United States). For the United States, as well as any other CPC with a historical record of Pacific bluefin tuna catch in the EPO, the catch limit for both years combined would be 600 mt and is not to exceed 425 mt in a single year. Additionally, if U.S. commercial Pacific bluefin tuna catch in the Convention Area exceeds 300 mt in 2015, then the 2016 U.S. catch limit may not exceed 200 mt, which could result in a total combined catch for both years that is less than 600 mt.

Resolution C-14-06 differs from prior IATTC resolutions on the conservation and management of Pacific bluefin tuna. As with prior resolutions, the current resolution establishes a Commission-wide catch limit applicable to all CPCs collectively and throughout the Convention Area; however, the individual CPC catch limits (as described above) count toward the Commission-wide limit. Under previous resolutions, the individual CPC limits were separate from the Commission-wide limit; specifically, the United States had the opportunity to catch the individual CPC limit as a minimum while also having access to the Commission-wide limit. Under Resolution C-14-06, the United States may not fish more than the individual CPC catch limit, as described above. Furthermore, since 2012, the annual CPC limit has been 500 mt. Under C-14-06, the individual CPC limit would be approximately 600 mt over 2 years, as described above.

Council Recommendations for the Implementation of C-14-06

At its November 2014 meeting, the Pacific Fishery Management Council recommended that two trip limits be included in the rule to implement the annual catch limits in accordance with the resolution: (1) An initial 20 mt trip limit until catch is within 50 mt of the annual catch limit, and (2) a 2 mt trip limit that would be imposed when the cumulative catch for the year is within 50 mt of the annual catch limit. The trip limits are intended to enhance the effectiveness of inseason management such that the fishery is more likely to have access to the maximum catch limit for 2015 and 2016 (i.e., 600 mt). The monitoring of trip limits will assist managers and industry with staying informed on current catch levels as well as to ensure that the fishery is not closed prematurely. Furthermore, the trip limits may help alleviate derby-style fishing pressure and the potential for excess supply of Pacific bluefin tuna over short periods of time. This excess supply could drive down prices, while depriving consumers of Pacific bluefin tuna at other times. The 2 mt trip limit would be intended to prevent large-scale targeting of Pacific bluefin tuna, while allowing the retention of Pacific bluefin tuna that is harvested incidentally by fishermen targeting other species. This would reduce the likelihood of wasteful discards in non-directed fisheries (e.g., from drift gillnet, hook-and-line), which typically land less than 2 mt per trip.

Annual and trip catch limits have been used in past management of this fishery. In 2014, NMFS closed the commercial fishery to U.S. vessels in 2014 (79 FR 53631, September 10, 2014) to avoid exceeding the annual catch limit of 500 mt; preliminary landings data, which is used to estimate catch, indicated catch was 454 mt. However, updated landings data revealed that U.S. catch was 403.5 mt; therefore, NMFS re-opened the fishery with a 1 mt trip limit with the intent to reduce the likelihood of wasteful discards in non-directed fisheries (e.g., from drift gillnet, hook-and-line) (79 FR 68133, November 14, 2014).

Pacific Bluefin Tuna Catch History

While Pacific bluefin tuna catch by U.S. commercial vessels fishing in the Convention Area exceeded 1,000 mt per year in the early 1990s, annual catches have remained below 500 mt for more than a decade. The U.S. commercial catch of Pacific bluefin tuna in the Convention Area for the years 1999 to 2014 can be found in Table 1 below. The average annual Pacific bluefin tuna landed catch by U.S. commercial vessels fishing in the Convention Area from 2010 to 2014 represents only two percent of the average annual landings for all fleets fishing in the Convention Area during that period (for information on Pacific bluefin tuna harvests in the Convention Area through 2013, see: http://isc.ac.affrc.go.jp/pdf/ISC14pdf/ISC14_Plenary_Report_draft%20cleared%20140721-2_2Sept14_sms_forpostingonweb.pdf; for preliminary information on Pacific bluefin tuna harvest in the Convention Area in 2014, see http://www.iattc.org/MonthlyReports/2014/201410MonthlyRpt.pdf).

Table 1—Annual U.S. Commercial Catch, in Metric Tons (mt), of Pacific Bluefin Tuna in the Eastern Pacific Ocean From 1999 to 2014
Year | Catch (mt)
1999 | 186
2000 | 313
2001 | 196
2002 | 11
2003 | 36
2004 | 10
2005 | 207
2006 | 1
2007 | 45
2008 | 1
2009 | 415
2010 | 1
2011 | 118
2012 | 43
2013 | 10
2014 | * 404
Source: Highly Migratory Species Stock Assessment and Fishery Evaluation: http://www.pcouncil.org/highly-migratory-species/stock-assessment-and-fishery-evaluation-safe-documents/current-hms-safe-document/.
* Preliminary estimate of 2014 Pacific bluefin tuna landed catch by United States based on communications with California Department of Fish and Wildlife on December 11, 2014.

Proposed Regulations for Pacific Bluefin Tuna for 2015-2016

This proposed rule would establish annual and trip catch limits for U.S. commercial vessels that catch Pacific bluefin tuna in the Convention Area for 2015 and 2016 (Table 2). A trip limit is proposed to be defined as the total allowable amount of a species by weight of fish that may be retained on board, transshipped, or landed during a single fishing trip by a vessel that harvests tuna or tuna-like species. In 2015, an annual catch limit for the entire U.S. fleet of 425 mt with an initial trip limit of 20 mt per vessel would be imposed. When NMFS anticipates that total catch for the fleet has reached 375 mt, NMFS will announce that a 2 mt trip limit for each vessel will be in effect until the total catch for the year reaches 425 mt. In 2016, the annual catch limit will be announced in a Federal Register notice and calculated to correspond with the limits established in the resolution (i.e., not to exceed 425 mt in a year and if catch exceeds 300 mt in 2015, then catch will be limited to 200 mt in 2016). The 2016 annual catch limit will be calculated as the remainder from 2015 (i.e., how much of 425 mt was not caught) added to 175 mt, except as follows: (1) If 175 mt or less is caught in 2015, then the 2016 annual catch limit is 425 mt; (2) if greater than 300 mt and up to 400 mt are caught in 2015, then the annual catch limit in 2016 will be 200 mt; or (3) if greater than 425 mt is caught in 2015, then the annual catch limit in 2016 will be further reduced by the amount in excess of 425 mt (i.e., the remainder of the 600 mt limit for 2015-2016). The fishery in 2016 will also be subject to an initial 20 mt trip limit until catch is within 50 mt of the 2016 annual catch limit, after which a 2 mt trip limit will be imposed.

When NMFS determines that the annual catch limit is expected to be reached in 2015 or 2016 (based on landings receipts, data submitted in logbooks, and other available fishery information), NMFS will prohibit commercial fishing for, or retention of, Pacific bluefin tuna for the remainder of the calendar year. NMFS would publish a notice in the Federal Register announcing that the targeting, retaining, transshipping or landing for Pacific bluefin tuna will be prohibited on a specified effective date through the end of that calendar year. Upon that effective date, a commercial fishing vessel of the United States may not be used to target, retain on board, transship, or land Pacific bluefin tuna captured in the Convention Area during the period specified in the announcement, with the exception that any Pacific bluefin tuna already on board a fishing vessel on the effective date may be retained on board, transshipped, and/or landed, to the extent authorized by applicable laws and regulations, provided that they are landed within 14 days after the effective date.

Table 2—Potential Scenarios for U.S. Commercial Catch of Pacific Bluefin Tuna, in Metric Tons (mt), From the Eastern Pacific Ocean in 2015 and 2016
Scenarios | 2015 U.S. commercial catch (and/or limit) | 2016 U.S. commercial limit
1 | 0-175 mt | 425 mt (max allowed).
2 | 176-300 mt greater than | 300-424 mt (remainder of 600 mt catch limit).
3 | 300 mt and up to 400 mt | 200 mt.
4 | 401-425 mt | 175-200 mt (remainder of 600 mt catch limit).
5 * | 426-600 mt | 0-174 mt.
* Scenario 5 would occur only if the 2015 limit under Resolution C-14-06 were exceeded.

Proposed Catch Monitoring, Annual and Trip Catch Limit Announcements

NMFS would provide updates on Pacific bluefin tuna catches in the Convention Area to the public via the IATTC listserv and the West Coast Region Web site: http://www.westcoast.fisheries.noaa.gov/fisheries/migratory_species/bluefin_tuna_harvest_status.html. Additionally, NMFS would report preliminary estimates of Pacific bluefin tuna catch between monthly intervals if and when catches approach the limits to help participants in the U.S. commercial fishery plan for the possibility of the annual catch limit being reached. NMFS will notify industry when catch approaches 250 mt in 2015.

In 2015, NMFS would publish up to two Federal Register notices after the final rule is issued, imposing inseason management measures. First, NMFS would publish a notice when the commercial 2 mt trip limit is imposed (i.e., catch is expected to reach 375 mt). Second, NMFS would publish a notice closing the entire commercial fishery completely when NMFS determines that the annual catch limit is expected to be met.

In 2016, NMFS would publish up to three notices in the Federal Register. The first notice would announce the 2016 annual catch limit. A second notice would announce the 2 mt trip limit, when NMFS determines that the commercial catch is expected to be within 50 mt of the annual catch limit. NMFS would publish a third notice in the Federal Register when NMFS determines that the annual catch limit is expected to be reached.

Classification

The NMFS Assistant Administrator has determined that this proposed rule is consistent with the Tuna Conventions Act and other applicable laws.

This proposed rule has been determined to be not significant for purposes of Executive Order 12866.

Additionally, although there are no new collection-of-information requirements associated with this action that are subject to the Paperwork Reduction Act, existing collection-of-information requirements associated with the Fishery Management Plan for U.S. West Coast Fisheries for Highly Migratory Species (HMS FMP) still apply. These requirements have been approved by the Office of Management and Budget under Control Number 0648-0204. Notwithstanding any other provision of the law, no person is required to respond to, and no person shall be subject to penalty for failure to comply with, a collection-of-information subject to the requirements of the PRA, unless that collection-of-information displays a currently valid OMB control number.

Pursuant to the Regulatory Flexibility Act (RFA), 5 U.S.C. 605(b), the Chief Counsel for Regulation of the Department of Commerce certified to the Chief Counsel for Advocacy of the Small Business Administration that this proposed rule, if adopted, would not have a significant economic impact on a substantial number of small entities. The rationale for the certification is provided in the following paragraphs:

On June 12, 2014, the Small Business Administration (SBA) issued an interim final rule revising the small business size standards for several industries effective July 14, 2014 (79 FR 33467). The rule increased the size standard for Finfish Fishing from $19.0 million to $20.5 million, Shellfish Fishing from $5.0 million to $5.5 million, and Other Marine Fishing from $7.0 million to $7.5 million. NMFS conducted its analysis for this action in light of the new size standards. The small entities that would be affected by the proposed action are the small coastal purse seine vessels that harvest Pacific bluefin tuna.

This proposed rule, in accordance with IATTC Resolution C-14-06 and following advice from the Pacific Fishery Management Council, will implement annual and trip catch limits for U.S. commercial vessels that harvest Pacific bluefin tuna in the Convention Area for 2015 and 2016. U.S. commercial catch of Pacific bluefin tuna from the Convention Area is primarily made in waters off of California largely by the coastal pelagic small purse seine fleet that opportunistically targets Pacific bluefin tuna and by other fleets that incidentally catch Pacific bluefin tuna (e.g., California large-mesh drift gillnet, surface hook-and-line, west coast longline, and Hawaii's pelagic fisheries). Resolution C-14-06 sets a catch limit of 600 mt for both years combined and is not to exceed 425 mt in a single year. If the U.S. commercial Pacific bluefin tuna catch in the Convention Area exceeds 300 mt in 2015, the U.S. catch may not exceed 200 mt in 2016. In each year, based on the Pacific Fishery Management Council's recommendation, NMFS is proposing a trip limit of 20 mt until catch is within 50 mt of the annual catch limit and a 2 mt trip limit when catch is within 50 mt of the annual catch limit.

The two trip limits are expected to benefit the fishery. They are intended to enhance the effectiveness of inseason management such that the fishery will have access to the full catch limit for 2015 and 2016, combined. Further, the trip limit may help alleviate derby-style fishing pressure and the potential for excess supply of Pacific bluefin tuna, which could drive down market prices. Additionally, the 2 mt trip limit is intended to reduce the likelihood of wasteful discards in non-directed fisheries (e.g., from drift gillnet and hook-and-line). NMFS will publish a notice in the Federal Register to notify stakeholders when the 2 mt trip limit will be imposed.

The small entities to which the proposed action would apply are all U.S. commercial fishing vessels that may target (e.g., coastal pelagic purse seine vessels) or incidentally catch Pacific bluefin tuna in the Convention Area (e.g., drift gillnet); however, not all are affected by the proposed action. Annually, from 2009 to 2013, the number of small coastal pelagic purse seine vessels that landed Pacific bluefin tuna in the Convention Area ranged from zero to six. In 2009, eight purse seine vessels fishing in the Convention Area landed HMS in California, but only six of them were involved in landing about 410 mt of Pacific bluefin tuna in west coast ports worth about $427,000. In 2010 and 2013, the coastal purse seine fishery did not land Pacific bluefin tuna. In 2011 and 2012, less than three vessels targeted Pacific bluefin tuna; therefore, their landings and revenue are confidential. Purse seine vessels have caught an average of 26 mt per trip from 2009 through 2013; therefore, the 20 mt trip limit may result in an economic loss. From 2004 through 2013, purse seiners have caught an average of 42 mt of Pacific bluefin tuna per vessel annually (an average only of the years in which there were Pacific bluefin tuna landings by purse seine vessels). Vessels are expected to cease fishing for Pacific bluefin tuna when they reach the trip limit and possibly divert effort to other fisheries, such as coastal pelagic species (e.g., market squid, sardine) or make more frequent trips targeting Pacific bluefin tuna. In contrast, vessels with other gear-types landing incidentally-caught Pacific bluefin tuna have not landed more than 2 mt; therefore, these vessels are unlikely to be affected by the proposed trip limits. Vessels with incidental landings of Pacific bluefin tuna in 2013 include twelve drift gillnet vessels, nine surface hook-and-line vessels, three longline vessels, and three bait boats.

Since 2000, the average annual revenue per vessel from all finfish fishing activities for the U.S. purse seine fleet and other fleets that have landed Pacific bluefin tuna has been less than $20.5 million, whether considering an individual vessel or per vessel average. Since 2004, in years Pacific bluefin tuna was landed, purse seine vessels that caught Pacific bluefin tuna had an average annual income of about $1.9 million per vessel (based on all species landed). The revenue derived from Pacific bluefin tuna is only a small fraction (2.62% annually from 2004-2013) of the overall revenue, as small coastal pelagic purse seine vessels typically harvest other species, including Pacific sardine, Pacific mackerel, squid, and anchovy. Implementation of the annual catch limits for 2015 and 2016 in this proposed action is not expected to result in changes in current fishery operations, as the annualized catch limit is above recent annual average catches of Pacific bluefin tuna by all fleets. The proposed action is expected to result in an annual loss of approximately 12 mt (value of $12,000) of Pacific bluefin tuna by purse seine vessels during 2015 and 2016; the ex-vessel value of Pacific bluefin tuna in this fishery is $1.03/kilogram. This amount is negligible relative to the fleet's annual revenue resulting from other species. Accordingly, vessels' income is not expected to be altered significantly as a result of this rule.

The absence of the proposed action would allow U.S. fisheries to target Pacific bluefin tuna without restriction (except for existing permit requirements, such as a Pacific Highly Migratory Species Permit under the HMS FMP). The 2014 annual catch limit of 500 mt expired on December 31, 2014 (79 FR 28448, May 16, 2014). Not implementing the limits in Resolution C-14-06 that are intended to reduce fishing mortality could contribute to continued overfishing or overfished conditions for the stock (78 FR 41033, July 9, 2013). Alternatively, the implementation of Resolution C-14-06 will contribute to the sharing of sustainable benefits from Pacific bluefin tuna fishery resources among the IATTC member and cooperating non-member countries.

Pursuant to the Regulatory Flexibility Act and the SBA's June 20, 2013 and June 14, 2014 final rules (78 FR 37398 and 79 FR 33647, respectively), this certification was developed for this action using the SBA's revised size standards. NMFS considers all entities subject to this action to be small entities as defined by both the former, lower size standards and the revised size standards. Because each affected vessel is a small business, this proposed action is considered to equally affect all of these small entities in the same manner. Based on the disproportionality and profitability analysis above, the proposed action, if adopted, will not have adverse or disproportional economic impact on these small business entities. Therefore, the proposed action would not have a significant economic impact on a substantial number of small entities. As a result, an Initial Regulatory Flexibility Analysis is not required, and was not prepared for this proposed rule.

List of Subjects in 50 CFR Part 300

Administrative practice and procedure, Fish, Fisheries, Fishing, Marine resources, Reporting and recordkeeping requirements, Treaties.

Dated: March 3, 2015.
Eileen Sobeck,
Assistant Administrator for Fisheries, National Marine Fisheries Service.

For the reasons set out in the preamble, 50 CFR part 300 is proposed to be amended as follows:

PART 300—INTERNATIONAL FISHERIES REGULATIONS

1. The authority citation for part 300, Subpart C, continues to read as follows:

Authority: 16 U.S.C. 951 et seq.

2. In § 300.21, add the definition for “Trip limit” in alphabetical order to read as follows:

§ 300.21 Definitions.

* * * * *

Trip limit means the total allowable amount of a species by weight of fish that may be retained on board, transshipped, or landed from a single fishing trip by a vessel that harvests tuna or tuna-like species.

* * * * *

3. In § 300.24, revise paragraph (u) to read as follows:

§ 300.24 Prohibitions.

* * * * *

(u) Use a United States commercial fishing vessel in the Convention Area to target, retain on board, transship or land Pacific bluefin tuna in contravention of § 300.25(h)(3) and (h)(5).

* * * * *

4. In § 300.25, revise paragraph (h) to read as follows:

§ 300.25 Eastern Pacific fisheries management.

* * * * *

(h) Pacific bluefin tuna commercial catch limits in the eastern Pacific Ocean for 2015-2016. The following is applicable to the U.S. commercial fishery for Pacific bluefin tuna in the Convention Area in the years 2015 and 2016.

(1) For the calendar year 2015, all commercial fishing vessels of the United States combined may capture, retain, transship, or land no more than 425 metric tons in the Convention Area.

(2) In 2016, NMFS will publish a notice in the Federal Register announcing the 2016 annual catch limit. For the calendar year 2016, all commercial fishing vessels of the United States combined may capture, retain on board, transship, or land no more than the 2016 annual catch limit. The 2016 annual catch limit is calculated by adding any amount of the 425 metric ton catch limit that was not caught in 2015, as determined by NMFS, to 175 metric tons, except as follows:

(i) if 175 metric tons or less are caught in 2015, as determined by NMFS, then the 2016 catch limit is 425 metric tons;

(ii) if in 2015, greater than 300 metric tons and up to 400 metric tons are caught, as determined by NMFS, then the 2016 catch limit is 200 metric tons; or

(iii) if greater than 425 metric tons are caught in 2015, as determined by NMFS, then the 2016 catch limit is calculated by subtracting the amount caught in 2015 from 600 metric tons.

(3) In 2015 and 2016, a 20 metric ton trip limit will be in effect until NMFS anticipates that catch will be within 50 metric tons of the annual catch limits, after which a 2 metric ton trip limit will be in effect upon publication of a notice in the Federal Register by NMFS.

(4) After NMFS determines that the annual catch limits under paragraphs (h)(1) and (h)(2) of this section are expected to be reached by a future date, NMFS will publish a fishing closure notice in the Federal Register announcing the effective date that additional targeting, retaining on board, transshipping or landing Pacific bluefin tuna in the Convention Area shall be prohibited as described in paragraph (h)(5) of this section.

(5) Beginning on the date announced in the fishing closure notice published under paragraph (h)(4) of this section through the end of the calendar year, a commercial fishing vessel of the United States may not be used to target, retain on board, transship, or land Pacific bluefin tuna captured in the Convention Area, with the exception that any Pacific bluefin tuna already on board a fishing vessel on the effective date of the notice may be retained on board, transshipped, and/or landed, to the extent authorized by applicable laws and regulations, provided such Pacific bluefin tuna is landed within 14 days after the effective date published in the fishing closure notice.

[FR Doc. 2015-05385 Filed 3-6-15; 8:45 am]

BILLING CODE 3510-22-P